DEPARTMENT OF THE INTERIOR

National Park Service

Notice of Inventory Completion: Phoebe A. Hearst Museum of Anthropology, University of California, Berkeley, Berkeley, CA

AGENCY: National Park Service, Interior.

ACTION: Notice.

Notice is here given in accordance with provisions of the Native American Graves Protection and Repatriation Act (NAGPRA), 25 U.S.C. 3003, of the completion of an inventory of human remains and associated funerary objects in the possession of the Phoebe A. Hearst Museum of Anthropology, University of California, Berkeley, Berkeley, CA. The human remains and associated funerary objects were removed from Humboldt County, CA.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

An assessment of the human remains, catalogue records, and associated documents relevant to the human remains was made by Phoebe A. Hearst Museum of Anthropology professional staff in consultation with representatives of the Big Lagoon Rancheria, California; Cher-Ae Heights Indian Community of the Trinidad Rancheria, California; Resighini Rancheria, California; and Yurok Tribe of the Yurok Reservation, California.

In 1926, human remains representing at least five individuals were recovered from site CA-Hum-NL-3, Humboldt County, CA, by Dr. Herbert H. Stuart. Dr. Stuart donated the human remains to the Phoebe A. Hearst Museum of Anthropology that same year. No known individuals were identified. No associated funerary objects are present.

Based on the consultation, geographic, linguistic, and archeological evidence, including the presence of a site-specific artifact indicative of the Gunther Pattern (A.D. 1500-1850), which is not in the possession of Phoebe A. Hearst Museum, the site CA-Hum-NL-3 has been identified as a Yurok site. Archeological evidence indicates that the Yurok cultural continuity began by at least A.D. 500.

In 1930, human remains representing at least seven individuals were removed from site CA-Hum-NL-7, Trinidad, Humboldt County, CA, by Dr. Stuart. In 1931, Dr. Stuart donated the human remains to the Phoebe A. Hearst Museum. No known individuals were identified. The 22 associated funerary objects are 22 disk shell beads.

Based on consultation, geographic, linguistic, archeological, and ethnographic evidence, site CA-Hum-NL-7 has been identified as a Yurok site. The presence of Class J and Class K beads are indicative of the Protohistoric Period (post A.D. 1500). Archeological evidence indicates that the Yurok cultural continuity began by at least A.D. 500.

Officials of the Phoebe A. Hearst Museum of Anthropology have determined that, pursuant to 25 U.S.C. 3001 (9-10), the human remains described above represent the physical remains of 12 individuals of Native American ancestry. Officials of the Phoebe A. Hearst Museum, also have determined that, pursuant to 25 U.S.C. 3001 (2), the 22 objects described above are reasonably believed to have been placed with or near individual human remains at the time of death or later as part of the death rite or ceremony. Lastly, officials of the Phoebe A. Hearst Museum, have determined that, pursuant to 25 U.S.C. 3001 (2), there is a relationship of shared group identity that can be reasonably traced between the Native American human remains and associated funerary objects and the Big Lagoon Rancheria, California; Cher-Ae Heights Indian Community of the Trinidad Rancheria, California; Resighini Rancheria, California; and Yurok Tribe of the Yurok Reservation, California.

Representatives of any other Indian tribe that believes itself to be culturally affiliated with the human remains and the associated funerary objects should contact Douglas Sharon, Director, Phoebe A. Hearst Museum of Anthropology, University of California, Berkeley, Berkeley, CA 94720-3712, telephone (510) 643-0585, before January 23, 2006. Repatriation of the human remains and associated funerary objects to the the Big Lagoon Rancheria, California; Cher-Ae Heights Indian Community of the Trinidad Rancheria, California; Resighini Rancheria, California; and Yurok Tribe of the Yurok Reservation, California may proceed after that date if no additional claimants come forward.

Phoebe A. Hearst Museum of Anthropology, is reponsible for notifying the Big Lagoon Rancheria, California; Cher-Ae Heights Indian Community of the Trinidad Rancheria, California; Resighini Rancheria, California; and Yurok Tribe of the Yurok Reservation, California that this notice has been published.

Dated: November 30, 2005
Sherry Hutt,
Manager, National NAGPRA Program.

[FR Doc. E5-7680 Filed 12-21-05; 8:45 am]

BILLING CODE 4312-50-S